DEPARTMENT OF DEFENSE

Office of the Secretary; Executive Committee Meeting of the Defense Advisory Committee on Women in the Services (DACOWITS)

AGENCY: Department of Defense, Advisory Committee on Women in the Services.

ACTION: Notice.

SUMMARY: This notice is hereby given of a forthcoming Quarterly Executive Committee Meeting of the Defense Advisory Committee on Women in the Services (DACOWITS). The purpose of the Executive Committee Meeting is to review the responses to the recommendations and requests for information adopted by the committee at the DACOWITS 2000 Spring Conference.

DATES: September 11, 2000, 8 a.m.-5 p.m.

ADDRESSES: Conference Room 5C1042, The Pentagon, Washington, DC.

FOR FURTHER INFORMATION CONTACT: Major Susan E. Kolb, ARNGUS, DACOWITS and Military Women Matters, OASD (Force Management Policy), 4000 Defense Pentagon, Room 3D769, Washington, DC 20301-4000; telephone (703) 697-2122.

SUPPLEMENTARY INFORMATION: Meeting agenda: Monday, 11 September 2000.

Time | Event | Official
7:30 a.m. | DACOWITS Members Arrive | Military Staff.
8 a.m. | Chair Commences Meeting | Ms. McCall.
| ASD(FMP) Remarks | Hon. Maldon.
| Introduction of Executive Committee And MilReps/Liaisons (5C1042) | Ms. McCall.
8:30 a.m. | Impact of Outsourcing and Privatization on Quality of Life (Quality of Life RFI #2) (5C1042) | USA, USN, USMC, USAF, USCG.
10 a.m. | Break
10:15 a.m. | Army Transformation (Forces Development and Utilization RFI#1) (5C1042) | USA.
11 a.m. | Break
11:30 a.m. | Official Luncheon with DCSPERS/J-1 (OSD Blue Room-3D854) | OSD (Host).
1 p.m. | Break
1:15 p.m. | Pregnancy Policies (Executive Committee RFI#1) (5C1042) | USA, USN, USMC, USAF, USCG.
3:15 p.m. | Break
3:30 p.m. | Voting Session | Ms. McCall
4:30 p.m. | Fall Conference Overview and Wrap Up | Ms. McCall
5 p.m. | Depart the Pentagon.

Dated: August 9, 2000.
L.M. Bynum,
Alternate OSD Federal Register Liaison Officer, Department of Defense.

[FR Doc. 00-20660 Filed 8-14-00; 8:45 am]

BILLING CODE 5001-01-M